DEPARTMENT OF TRANSPORTATION

Federal Aviation Administration

[Docket: FAA-2023-2249]

Notice of Availability; Adoption of the United States Air Force's Final Environmental Impact Statement—Airspace Optimization for Readiness at Mountain Home Air Force Base, Idaho, and the Record of Decision for Federal Aviation Administration Actions

AGENCY: Federal Aviation Administration (FAA), Department of Transportation.

ACTION: Notice of availability (NOA) for the adoption of the United States Air Force (USAF) final environmental impact statement (FEIS) and FAA's record of decision (ROD).

SUMMARY: The FAA announces its decision to adopt the USAF FEIS—Airspace Optimization for Readiness at Mountain Home Air Force Base (MHAFB), Mountain Home, Idaho. Based on its independent review and evaluation of the FEIS and supporting documents, the FAA is adopting the FEIS and issuing a ROD for the modification of special use airspace (SUA) at the Mountain Home Range Complex (MHRC).

FOR FURTHER INFORMATION CONTACT: Lonnie Covalt, Operations Support Group, Western Service Center, 2200 216th Street, Des Moines, WA 98198; telephone (206) 231-3998.

SUPPLEMENTARY INFORMATION:

Background

As described in the FEIS, the Proposed Action consists of USAF military flight training operations at low altitudes in the Paradise North Military Operations Area (MOA), Paradise South MOA, Owyhee South MOA, and Jarbidge South MOA. USAF would conduct supersonic operations at lower altitudes within the same four MOAs. To accommodate the Proposed Action, the FAA would modify SUA to ensure safe operations continue within the National Airspace System and allow for optimized airspace at the MHRC.

The MHRC and the SUA associated with MHAFB provide airspace for combat air power and combat support training to U.S. forces—and its allies—and support unit-level and larger force combat skills training. In addition, mission activities such as search and rescue training, survival training, convoy escort training, and ground-based air defense radio detection and ranging (radar) threat simulation occur on the land areas of the MHRC. The airspace and ranges primarily support Idaho-based units from MHAFB Air National Guard units from Gowen Field in Boise, Idaho, in addition to other USAF and Department of Defense (DoD)-approved users. The MHRC SUA consists of six MOAs and two Restricted Areas (RA) with associated ranges for inert weapons use. The airspace overlies portions of Idaho, Nevada, and Oregon.

The Draft Environmental Impact Statement (DEIS) underwent a 109-day public comment period from July 9, 2021, to October 25, 2021, and there were 2,894 comment letters (not including duplicate submittals) submitted during the public comment period via mail, email, written at public hearings, verbal at public hearings, and the public website. A summary of the DEIS public involvement, agency coordination, and tribal consultation is contained in the FEIS. The FAA circularized the aeronautical proposal. The FEIS was made available to the public for 30 days on March 3, 2023, through a NOA in the Federal Register (88 FR 13443). The USAF issued their ROD on July 14, 2023, and a NOA of USAF's ROD was published in the Federal Register on August 2, 2023 (88 FR 50849).

Implementation

After evaluating the aeronautical study and the FEIS, the FAA has issued a ROD for the requested SUA. The Proposed Action consists of changes to lower the altitude of the floors within the MHAFB Military Operations Areas (MOA) of Paradise North MOA, Paradise South MOA, Owyhee South MOA, and Jarbidge South MOA. The designated altitudes are at 100 feet (ft) above ground level (AGL) up to 17,999 ft mean sea level (MSL). The times of use are between 0730-2200 mountain time, Monday through Friday; other times by Notice of Air Missions (NOTAM) expected use is estimated to be 260 days per year, 12 hours per day. The legal descriptions for the modified MOAs will be published in the National Flight Data Digest.

In accordance with Section 102 of the National Environmental Policy Act of 1969 (NEPA), the Council on Environmental Quality's (CEQ) regulations for implementing NEPA (40 CFR parts 1500-1508), and other applicable authorities (including FAA Order 1050.1F, Environmental Impacts: Policies and Procedures, paragraph 8-2, and FAA Order JO 7400.2P, Procedures for Handling Airspace Matters, paragraph 32-2-3), the FAA has conducted an independent review and evaluation of the USAF FEIS. As a cooperating agency with responsibility for approving SUA under 49 U.S.C. 40103(b)(3)(A), the FAA provided subject matter expertise and coordinated with the USAF during the environmental review process.

The FAA signed the ROD on [November 17, 2023]. The ROD is available on the FAA website at: https://www.faa.gov/air_traffic/environmental_issues.

Issued in Des Moines, WA, on November 17, 2023.
Lonnie Covalt,
Lead Environmental Protection Specialist, Operations Support Group, Western Service Center.

[FR Doc. 2023-25978 Filed 11-22-23; 8:45 am]

BILLING CODE 4910-13-P